DEPARTMENT OF AGRICULTURE

Food Safety and Inspection Service

9 CFR Part 310

[Docket No. FSIS 2024-0023]

RIN 0583-AD99

Visual Post-Mortem Inspection in Swine Slaughter Establishments

AGENCY: Food Safety and Inspection Service (FSIS), U.S. Department of Agriculture (USDA).

ACTION: Proposed rule.

SUMMARY: FSIS is proposing to end mandatory mandibular lymph nodes incision and viscera palpation of swine carcasses in all swine slaughter establishments (i.e., establishments operating under traditional swine slaughter inspection or the New Swine Slaughter Inspection System (NSIS). Mandibular lymph nodes (“lymph nodes”) incision and viscera palpation of swine carcasses are not needed to ensure food safety, as FSIS swine condemnation rates are low and disease conditions that are condemnable defects can be detected visually through other pathological changes in the carcass and its parts. Therefore, FSIS is proposing to amend the meat inspection regulations to remove requirements for establishment sorters to “incise mandibular lymph nodes and palpate the viscera” as part of their sorting activities before FSIS post-mortem inspection in NSIS establishments. FSIS is also proposing to amend the post-mortem swine inspection staffing standards table applicable to swine slaughter establishments operating under traditional inspection. This change would allow FSIS more flexibility to assign inspection program personnel (IPP) based on the establishment's line configuration, other establishment operations, and FSIS staffing needs.

DATES: Comments on the proposed rule must be received on or before October 20, 2025.

ADDRESSES: FSIS invites interested persons to submit comments on this proposed rule. Comments may be submitted by one of the following methods:

• Federal eRulemaking Portal: This website provides the ability to type short comments directly into the comment field on this web page or attach a file for lengthier comments. Go to https://www.regulations.gov. Follow the online instructions at that site for submitting comments.

• Mail: Send to Docket Clerk, U.S. Department of Agriculture, Food Safety and Inspection Service, 1400 Independence Avenue SW, Mailstop 3758, Washington, DC 20250-3700.

• Hand- or courier-delivered submittals: Deliver to 1400 Independence Avenue SW, Jamie L. Whitten Building, Room 350-E, Washington, DC 20250-3700.

Instructions: All items submitted by mail or electronic mail must include the Agency name and docket number FSIS-2024-0023. Comments received in response to this docket will be made available for public inspection and posted without change, including any personal information, to https://www.regulations.gov.

Docket: For in-person access to background documents or comments received, call (202) 720-5046 to schedule a time to visit the FSIS Docket Room at 1400 Independence Avenue SW, Washington, DC 20250-3700.

FOR FURTHER INFORMATION CONTACT: Rachel Edelstein, Assistant Administrator, Office of Policy and Program Development, at (202) 205-0495 or docketclerk@usda.gov with a subject line of “Docket No. FSIS 2024-0023.” Individuals in the United States who are deaf, deafblind, hard of hearing, or have a speech disability may dial 711 (TTY, TDD, or TeleBraille) to access telecommunications relay services. Individuals outside the United States should use the relay services offered within their country to make international calls to the point-of-contact in the United States. For a summary of the proposal, please see the rule summary document in docket FSIS-2024-0023 on www.regulations.gov.

SUPPLEMENTARY INFORMATION:

I. Background

FSIS has been delegated the authority to exercise the functions of the Secretary of Agriculture (7 CFR 2.18, 2.53), as specified in the Federal Meat Inspection Act (FMIA) (21 U.S.C. 601, et seq.). The FMIA provides that the Secretary shall cause to be made by inspectors an examination and inspection of all amenable species, including swine, before they enter into any establishment in which they are to be slaughtered and the meat and meat food products thereof are to be used in commerce (21 U.S.C. 603(a)). All amenable species found to show symptoms of disease are to be set apart and slaughtered separately; the carcasses of such animals are to be subject to a careful inspection (21 U.S.C. 603(a)). The FMIA also requires inspectors to conduct a post-mortem examination and inspection, and any necessary reinspection, of carcasses and parts of amenable species prepared for human food (21 U.S.C. 604). The FMIA requires that all carcasses and parts found to be adulterated be condemned (21 U.S.C. 604).¹

¹ Under the FMIA, a meat or meat food product is adulterated, among other circumstances, if it bears or contains any poisonous or deleterious substance that may render it injurious to health; it is unhealthful, unwholesome, or otherwise unfit for human consumption; it was prepared, packaged, or held under insanitary conditions whereby it may have been rendered injurious to health; or if damage or inferiority has been concealed in any manner (21 U.S.C. 601(m)(1),(3),(4),and (8)).

Under traditional swine inspection, Agency inspectors inspect the head, viscera, and carcass of each animal for localized defects and direct establishment employees to remove the defects through trimming. Under current Agency instructions for examining carcasses during traditional swine post-mortem inspection, FSIS online inspectors are to perform a careful examination and inspection of the carcasses and parts of each animal to inspect for animal diseases and defects. This examination includes the incision of the mandibular lymph nodes in heads and the palpation of lymph nodes (i.e., mesenteric, portal, and bronchial lymph nodes) in the viscera. FSIS online inspectors identify and retain carcasses and parts with lesions or conditions that might render the meat unfit for human consumption and require subsequent inspection by an FSIS veterinarian. The FSIS veterinarian next thoroughly examines carcasses and parts retained for this reason to determine whether they should be condemned. Establishment personnel then dispose of condemned carcasses and their parts under FSIS supervision in accordance with 9 CFR part 314.

The meat post-mortem inspection regulations for establishments operating under traditional inspection set forth swine inspection staffing standards based on several factors. Under the current staffing standards, FSIS assigns a certain number of online post-mortem inspectors per line per shift to perform post-mortem inspection of the head, viscera, and carcass at inspection stations at fixed points along the line (see Table 4, 9 CFR 310.1(b)(3)(ii)). FSIS assigns up to seven online post-mortem inspectors per line per shift to cover these head, viscera, and carcass inspection stations. In some establishments, one inspector may perform all the post-mortem inspection procedures on each carcass and its parts (see Table 1, 9 CFR 310.1(b)(3)(ii)).

In 2019, the Agency published a final rule to modernize swine slaughter inspection (84 FR 52300, October 1, 2019). The rule established an optional new swine slaughter inspection system, the NSIS, for market hog slaughter establishments. In establishments operating under the NSIS, establishment sorters are required to identify any condemnable conditions or defects before carcasses are presented to the FSIS online post-mortem inspectors. Establishment sorters are also required to “incise mandibular lymph nodes and palpate the viscera” to detect the presence of animal diseases as part of their sorting activities before FSIS post-mortem inspection (9 CFR 310.26(b)). FSIS stated in the 2019 final rule that it would evaluate ending mandatory lymph nodes incision and viscera palpation (84 FR 52300, 52313-52314). FSIS intended to allow NSIS establishments to apply for waivers from the lymph nodes incision and viscera palpation regulatory requirements, provided establishments submitted documentation supporting that the presence of animal diseases is not reasonably likely to occur. Waivers would then be used to gather information on the public health impact of such sorting activities to support potential future rulemaking (84 52300, 52314). However, after reviewing FSIS condemnation data (discussed below), the Agency has more recently decided that waivers are unnecessary, as FSIS has sufficient data and information to move forward with rulemaking.

A. Visual Post-Mortem Inspection as an Effective Measure To Ensure Food Safety

FSIS swine carcass condemnation data demonstrate that removing the requirement for lymph nodes incision and viscera palpation (to detect possible abnormality in the lymph nodes) during post-mortem swine inspection may improve food safety by reducing opportunities for introduction of contamination. FSIS condemnation data supports that lymph node incision and viscera palpation are not needed to identify the conditions of condemnable swine carcasses at post-mortem inspection.² Swine disease conditions for which a carcass may be condemned (e.g., arthritis, pyometra, and splenic torsion) are primarily identified during the visual observation component of post-mortem swine inspection. Historically, incision of lymph nodes and palpation of the viscera during post-mortem swine inspection have aided in the detection of these disease conditions. However, based on FSIS’ experience with post-mortem inspection, swine carcasses affected with animal diseases that would result in condemnation often exhibit multiple pathological changes in the same carcass. These changes can be observed visually, allowing FSIS online inspectors to visually identify and retain those carcasses for disposition by an FSIS veterinarian without needing to incise lymph nodes in swine heads or palpate the viscera.

² FSIS post-mortem swine condemnation data available at: https://www.regulations.gov/docket/ FSIS 2024-0023.

Lymph nodes incision and viscera palpation are not needed to identify defects and disease conditions in swine carcasses, and ending the mandatory use of these procedures may also reduce the probability of carcass cross-contamination by microbial food safety hazards. Other countries, including France, the Netherlands, and Denmark,³ conduct alternative post-mortem market hog inspection to allow establishments to use discretion when determining whether to incise mandibular lymph nodes and palpate the viscera. These alternative procedures are supported by research demonstrating that lymph nodes incision and viscera palpation are risk factors for cross-contamination. For example, a risk assessment Denmark conducted in 2009 found, in part, that the food safety risks associated with Salmonella and Yersinia cross-contamination can be significantly reduced through the implementation of visual only inspection.⁴ France's alternative procedure is supported by a European Food Safety Authority (EFSA) scientific opinion that found, in part, the risk of microbial cross-contamination from incision and palpation is higher than the risk associated with potentially reduced detection of conditions targeted by these two traditional procedures.⁵

³ These countries’ food safety systems for raw and processed pork products have been found to be equivalent to FSIS’ inspection system.

⁴ Alban, Lis, et al., Risk Assessment for Supply Chain Meat Inspection of Danish Finisher Pigs, Jan. 1, 2009, available at: https://dr.lib.iastate.edu/entities/publication/0d33993b-6af9-4b42-a155-5f04c74b4607.

⁵ EFSA Journal 2011;9(10):2351, Scientific Opinion on the Public Health Hazards to be Covered by Inspection of Meat (Swine), available at: https://efsa.onlinelibrary.wiley.com/doi/pdfdirect/10.2903/j.efsa.2011.2351.

Under the FMIA and the regulations that implement the statute, meat and meat products imported into the United States must be produced under standards for safety, wholesomeness, and labeling accuracy that are equivalent to those of the United States (21 U.S.C. 620).⁶ As of the publication of this proposed rule, FSIS has determined that France, the Netherlands, and Denmark have met FSIS equivalence criteria for the use of discretionary lymph nodes incision and viscera palpation during post-mortem swine inspection.⁷ Should the rule become final, FSIS would use the Agency's equivalence procedures to similarly evaluate any future requests from foreign countries to determine whether a visual post-mortem swine inspection procedure achieves an appropriate level of public health protection as applied domestically by FSIS in the United States.

⁶ Information about the FSIS equivalence process, including a list of countries that have been determined to have equivalent meat, poultry, or egg product food safety inspection systems, can be found at: https://www.fsis.usda.gov/inspection/import-export/equivalence.

⁷ See FSIS Individual Sanitary Measure (ISM) Equivalence Determinations Table, available at: https://www.fsis.usda.gov/sites/default/files/media_file/2022-06/ism-equivalence-determination-table.pdf.

FSIS condemnation rates for swine carcasses during post-mortem inspection are low, condemnable defects and disease conditions in swine carcasses can be detected visually through other pathological changes, and lymph nodes incision may increase risk of food safety hazard cross-contamination. Therefore, removing the requirements for lymph nodes incision and viscera palpation during post-mortem NSIS sorting activities and traditional swine inspection may improve food safety.

B. Visual Inspection as an Efficient, Effective Use of Agency and Industry Resources

Ending mandatory lymph nodes incision and viscera palpation in swine slaughter establishments would improve FSIS inspection efficiency, make better use of FSIS inspection resources, and provide flexibility to industry. In traditional swine slaughter establishments, under this proposed rule, FSIS inspectors would focus more on observing the carcass and parts during post-mortem inspection procedures. FSIS inspectors would also maintain authority to incise and palpate lymph nodes and examine the viscera for defects, if needed. This approach would result in a more efficient examination of each carcass presented to online post-mortem inspectors without affecting an inspector's ability to detect defects and animal diseases and ensure proper disposition of those affected. Removing the lymph nodes incision and palpation requirements for NSIS establishments may also reduce establishments' costs to operate under the NSIS because they may be able to reduce the number of employees required to make carcasses ready for inspection before the head and viscera stations.

Under current staffing standards for establishments operating under traditional swine inspection, FSIS assigns up to seven online inspectors per line per shift to cover post-mortem inspection stations for the head, viscera, and carcass. Although the regulations do not specifically require FSIS inspectors in traditional establishments to incise lymph nodes and palpate the viscera of every swine carcass inspected, FSIS instructs its inspectors to perform these duties in FSIS Directive 6100.2, Post-Mortem Livestock Inspection.⁸ Because FSIS is proposing to remove unnecessary inspection procedures, the Agency may be able to assign fewer online inspectors at the head and viscera inspection stations in traditional swine slaughter establishments. Should the Agency implement the primarily visual inspection of heads and viscera, FSIS would assign up to three online post-mortem inspectors at the head inspection station and up to three inspectors at the viscera station, based on the establishment's line configuration, other establishment operations, and FSIS staffing needs.⁹ FSIS would continue to inspect every head, viscera, and carcass as required by the FMIA. However, this change would allow FSIS IPP to efficiently inspect each carcass presented for FSIS post-mortem inspection, thereby also providing the Agency more flexibility to assign inspectors at the head and viscera stations.

⁸ Available at: https://www.fsis.usda.gov/sites/default/files/media_file/2020-07/6100.2.pdf.

⁹ FSIS notes that, in some establishments, the carcass is inspected with the head attached to the carcass and both are inspected by the same inspector, so that there is no separate head inspection station. In other establishments with a different layout, the head and viscera stations are combined. In such cases, FSIS may not need to assign more than one inspector to inspect both the head and viscera.

FSIS is not proposing any changes to its staffing in NSIS establishments. Establishment sorters rather than FSIS inspectors incise lymph nodes and palpate the viscera in NSIS establishments. FSIS inspectors already conduct a primarily visual post-mortem inspection of the head, viscera, and carcass. Eliminating the requirement for establishment sorters to incise lymph nodes and palpate the viscera should not impact the workload of FSIS inspectors in NSIS establishments.

Additionally, ending mandatory lymph nodes incision and viscera palpation under the proposed rule would have no impact on line speed requirements for traditional or NSIS swine slaughter establishments.

As discussed above, should the proposed rule become final, FSIS would update its instructions to FSIS IPP on the primarily visual inspection of lymph nodes and viscera during post-mortem traditional swine inspection. FSIS would also update guidance to establishments ¹⁰ operating under the NSIS to reflect the procedures for the primarily visual observation and check of lymph nodes and viscera as part of establishment sorting activities before FSIS post-mortem inspection.

¹⁰ Current Agency guidance on NSIS establishment sorting procedures are described in FSIS Guideline for Training Sorters under the New Swine Slaughter Inspection System (September 2019), available at: https://www.fsis.usda.gov/sites/default/files/import/training-establishment-sorters-nsis.pdf.

II. Proposed Rule

Under the proposed rule, FSIS would revise 9 CFR 310.26(b) to remove requirements for establishment sorters to incise lymph nodes and palpate the viscera in swine slaughter establishments operating under the NSIS. Establishment sorters would continue to conduct carcass sorting activities and identify any condemnable conditions or defects before carcasses are presented to online post-mortem inspectors, as currently required under these regulations. For example, establishments sorters would still be required to visually examine all surfaces of viscera to detect condemnable conditions or defects.

The proposed rule also would revise the post-mortem inspection staffing standards applicable to swine slaughter establishments operating under traditional inspection in 9 CFR 310.1(b)(3)(ii). Specifically, the heading of Table 4 in 9 CFR 310.1(b)(3)(ii) would be revised to state that the listed number of inspectors per station (i.e., the head, viscera, and carcass stations) would be the maximum number of inspectors required. Under the revised staffing standards, FSIS would assign up to three inspectors at the head inspection station and up to three inspectors at viscera station, based on the establishment's operations (including inspection line configurations) and FSIS staffing needs.

III. Executive Orders 12866, as Amended by 13563 and 14192

Executive Order (E.O.) 12866 provides that the Office of Information and Regulatory Affairs (OIRA) in the Office of Management and Budget will determine whether a regulatory action is significant as defined by E.O. 12866 and will review significant regulatory actions. OIRA has determined that this rule is not significant as defined by E.O. 12866. E.O. 13563 reaffirms the principles of E.O. 12866 while calling for improvements in the Nation's regulatory system to promote predictability, to reduce uncertainty, and to use the best, most innovative, and least burdensome tools for achieving regulatory ends. FSIS has developed the proposed rule consistent with E.O. 13563. E.O. 14192, “Unleashing Prosperity Through Deregulation,” announced the Administration policy to significantly reduce the private expenditures required to comply with Federal regulations to secure America's economic prosperity and national security and the highest possible quality of life for each citizen and to alleviate unnecessary regulatory burdens placed on the American people. This proposed rule, if finalized as proposed, is considered an E.O. 14192 deregulatory action.

Economic Impact Analysis

Baseline and Need for the Rule

FSIS is proposing to end mandatory lymph nodes incision and viscera palpation in both traditional and NSIS swine slaughter establishments. Ending mandatory lymph nodes incision and viscera palpation in swine slaughter establishments would improve inspection efficiency, make a more efficient allocation of FSIS inspection resources, and provide flexibility to industry.

In 2024, there were 751 swine slaughter establishments that slaughtered approximately 127.8 million swine.¹¹ If finalized, this change would apply to inspection at all swine slaughter establishments. As of February 2025, there were 17 NSIS establishments, and 14 traditional establishments at which FSIS assigns four to seven online inspectors per line and at which the proposed changes may change the number of FSIS staff. For this analysis, FSIS assumed potential changes to Agency staffing at traditional establishments with 2 to 3 inspectors staffed at the viscera station or 2 to 3 inspectors staffed at the head station.¹² The 17 NSIS establishments may also change their establishment employee staffing in response to this proposed rule. FSIS does not anticipate any changes to the Agency's staffing at NSIS establishments.

¹¹ FSIS, Public Health Information System (PHIS) database, accessed February 2025.

¹² These 14 establishments also have 1 inspector at the carcass station; however, the proposed changes would not affect this position.

Expected Costs and Benefits of the Proposed Rule

FSIS does not expect the proposed changes would impose any costs on the Agency, industry, or consumers. The proposed changes may improve the safety or quality of the product. While the proposed changes do not require industry to implement any changes, they will likely stop lymph nodes incision and viscera palpation prior to post-mortem inspection.

Benefits Associated With the Proposed Rule

Benefits for FSIS

In traditional establishments, the proposed rule would allow FSIS IPP to more efficiently inspect each carcass presented for FSIS post-mortem inspection without affecting IPP's ability to detect animal diseases and conditions or ensure proper disposition of those affected. The proposed changes would improve the use of FSIS IPP time during inspection by removing unnecessary inspection duties for incising lymph nodes and palpating viscera.

As described above, the proposed rule would allow FSIS IPP to focus more on observing the carcass and parts during post-mortem inspection. FSIS inspectors would also maintain authority to incise lymph nodes and palpate viscera to look for defects, if needed. The increased inspection efficiency would allow FSIS to improve the use of FSIS inspection resources and to more effectively assign inspection verification responsibilities for IPP at all swine slaughter establishments, including offline verification activities to ensure that establishments comply with regulatory requirements critical to food safety (e.g., Hazard Analysis and Critical Control Points verification tasks).

Because FSIS online IPP would no longer be spending time incising lymph nodes and palpating the viscera, the Agency may reduce the number of online post-mortem inspectors in some traditional swine slaughter establishments resulting in a more efficient allocation of FSIS inspection resources. However, these reductions would be made over time through attrition and reassignment to other positions. If the proposed changes are finalized, FSIS IPP at traditional establishments would focus on observing the swine carcass and parts during post-mortem inspection procedures without being required to incise the lymph nodes and palpate the viscera. The traditional swine slaughter establishments that may experience changes to assigned FSIS online inspection personnel typically have five to seven inspectors per line. The Agency estimates that there could be a reduction equivalent to one to two online inspector positions at the head station and one to two online inspector positions at the viscera station in 14 traditional establishments because of the reduced workload, depending on establishment line configurations.¹³

¹³ FSIS used PHIS data to identify establishments and lines eligible for staffing changes. These establishments are large with at least two to three inspectors at the head or two to three inspectors at the viscera stations. These establishments had a total of 20 lines across all shifts. For this analysis, FSIS multiplied the number of lines by the number of daily shifts at each establishment to estimate the total number of lines. For example, an establishment operating two lines over two daily shifts would have a total of four lines.

For this analysis, FSIS quantified the cost savings associated with this reduction in online post-mortem inspection positions. The Agency assumed an FSIS online inspector is paid between $111,124 and $135,922, which is the Office of Personnel Management's (OPM), Rest of the U.S. (RUS) General Schedule (GS) 07 step 5 to GS-09 step 5 salary with a benefits factor of two.¹⁴ If the proposed rule is finalized, the Agency estimates a range of possible savings depending on how the resulting online inspection stations are staffed. These annualized savings range between $2.0 to $8.4 million over 10 years discounted at 7 percent.¹⁵ As mentioned above, any reductions to FSIS personnel would happen over time through attrition and reassignment to other positions.

¹⁴ FSIS Office of the Chief Financial Officer provided these salary estimates and benefit factor. In addition, the 2024 OPM RUS, Salary Table can be found at https://www.opm.gov/policy-data-oversight/pay-leave/salaries-wages/salary-tables/24Tables/html/RUS.aspx.

¹⁵ FSIS estimated a wide range of savings to provide flexibility for the resulting staffing of lines. To approximate the high estimate, FSIS assumed that one inspector would be staffed at the head station and one inspector would be staffed at the viscera station, reducing online inspector positions by 62 online inspector positions paid at the GS-9, step 5, OPM RUS salary. For the low estimate, FSIS assumed only the head station would have a reduction by one inspector per line paid at the GS-07, step 5, OPM RUS salary, reducing total inspector positions by 18.

Benefits for the Industry

If the proposed rule is finalized, FSIS would no longer require establishment sorters at NSIS establishments to incise lymph nodes and palpate the viscera. This change may result in NSIS establishments voluntarily reducing the number of employees needed to make carcasses and parts ready for inspection because the workload for sorters may be reduced. FSIS estimates that this change would result in a reduction of five to eight sorters per line at each NSIS establishment.

As of February 2025, there were 17 large NSIS establishments with 31 slaughter lines across all shifts.¹⁶ FSIS assumed these establishments staff up to 11 sorters per line.¹⁷ Sorters are paid higher wages than other production employees, because sorters trim and identify defects, such as dressing defects, contamination, and pathology defects, on carcasses and parts before FSIS post-mortem inspection.¹⁸ FSIS estimates these sorters are paid as production employees, with labor costs of $44.16 to $47.56 per hour.¹⁹ These labor costs are higher than the average production employee and include the 75th percentile wage rate of $22.08 to the 90th percentile wage rate of $23.78, multiplied by a benefits and overhead factor of two. Under these assumptions, FSIS estimates the annual industry cost savings for the reduction in sorters at NSIS establishments ranges from approximately $14.7 to $25.4 million over 10 years discounted at 7 percent.²⁰ However, industry may offset these cost savings by assigning personnel to other areas of the establishment, as relevant. These changes may incentivize additional swine slaughter establishments to convert to the NSIS.

¹⁶ FSIS used 2025 PHIS data to identify establishments. For this analysis, FSIS multiplied the number of lines by the number of daily shifts at each establishment to estimate the total number of lines. For example, an establishment operating two lines over two daily shifts would have a total of four lines.

¹⁷ The 11 sorters per line assumption is based on FSIS’ experience on how NSIS establishments staff slaughter lines. 84 FR 52324. Modernization of Swine Slaughter Inspection Final Rule as informed by the Hazard Analysis and Critical Control Point (HACCP)-Based Inspection Models Project (HIMP) and a commenter on the Modernization of Swine Slaughter Inspection Proposed Rule. https://www.fsis.usda.gov/sites/default/files/media_file/2021-02/2016-0017F.pdf.

¹⁸ 84 FR 52324. Modernization of Swine Slaughter Inspection Final Rule https://www.fsis.usda.gov/sites/default/files/media_file/2021-02/2016-0017F.pdf.

¹⁹ U.S. Bureau of Labor Statistics, Occupational Employment and Wage Estimates, May 2024: 51-3023 Slaughterers and Meat Packers, https://data.bls.gov/oes/#/industry/000000.

²⁰ For the low estimate, FSIS multiplied the hourly labor cost of $44.16 by the likely reduction of five sorters per line, multiplied by the total number of lines, 31, multiplied by the total estimated hours per year of 2,152 (or 269 production days multiplied by 8 hours per day). For the high estimate, FSIS multiplied the hourly labor cost of $47.56 by the likely reduction at the high estimate of eight sorters per line, multiplied by 31 lines, multiplied by the total estimated hours per year of 2,152 (or 269 production days multiplied by 8 hours per day).

IV. Regulatory Flexibility Act

The FSIS Administrator has made a preliminary determination that this proposed rule, if finalized, would not have a significant economic impact on a substantial number of small entities in the U.S., as defined by the Regulatory Flexibility Act (5 U.S.C. 601 et seq.). FSIS does not estimate any costs or benefits to small entities because of FSIS ending mandatory lymph nodes incision and viscera palpation in both traditional swine slaughter and NSIS establishments. The quantified industry benefits due to potential industry staffing changes would occur at the 17 NSIS establishments. Swine slaughter establishments are classified in the 311611-animal (except Poultry) Slaughter sector of the North American Industry Classification System (NAICS).²¹ The U.S. Small Business Administration (SBA) size standard for small businesses in this sector is 1,150 employees or less.²² Under the SBA definition, the 17 NSIS establishments are not considered small entities.

²¹ U.S. Census Bureau North American Industry Classification System (NAICS). Available online at https://www.census.gov/naics/?input=31&chart=2022&details=311615 (last accessed in April 2025).

²² United States Small Business Administration (SBA), Table of Small Business Standards Matched to North American Industry Classification System Codes. Effective January 1, 2022. Available at https://www.sba.gov/sites/default/files/files/Size_Standards_Table.pdf.

V. Paperwork Reduction Act

In accordance with the Paperwork Reduction Act of 1995 (44 U.S.C. 3501-3520), FSIS has reviewed the proposed rule. The Administrator has determined that this rulemaking would not create additional information collection or recordkeeping burdens.

VI. E-Government Act

FSIS and USDA are committed to achieving the purposes of the E-Government Act (44 U.S.C. 3601, et seq.) by, among other things, promoting the use of the internet and other information technologies and providing increased opportunities for citizen access to Government information and services, and for other purposes.

VII. Executive Order 12988, Civil Justice Reform

This proposed rule has been reviewed under E.O. 12988, Civil Justice Reform. Under this rule: (1) All State and local laws and regulations that are inconsistent with this rule will be preempted; (2) no retroactive effect will be given to this rule; and (3) no administrative proceedings will be required before parties may file suit in court challenging this rule.

VIII. Executive Order 13175

This rule has been reviewed in accordance with the requirements of E.O. 13175, “Consultation and Coordination with Indian Tribal Governments”. E.O. 13175 requires Federal agencies to consult and coordinate with tribes on a government-to-government basis on policies that have tribal implications, including regulations, legislative comments or proposed legislation, and other policy statements or actions that have substantial direct effects on one or more Indian tribes, on the relationship between the Federal Government and Indian tribes or on the distribution of power and responsibilities between the Federal Government and Indian tribes.

FSIS has assessed the impact of this rule on Indian tribes and determined that this rule does not, to our knowledge, have tribal implications that require tribal consultation under E.O. 13175. If a tribe requests consultation, FSIS will work with the Office of Tribal Relations to ensure meaningful consultation is provided where changes, additions, and modifications identified herein are not expressly mandated by Congress.

IX. Environmental Impact

Pursuant to the National Environmental Policy Act (42 U.S.C. 4321, et seq.) (NEPA), Federal agencies must prepare an environmental impact statement (EIS) for any “major Federal actions significantly affecting the quality of the human environment” (42 U.S.C. 4332 (C)). USDA's NEPA implementing regulations establish a categorical exclusion for specified categories of actions and the actions of certain USDA agencies and agency units (7 CFR 1b.3, 1b.4). USDA has determined that the listed agencies, including FSIS (7 CFR 1b.4(b)(6)), “conduct programs and activities that have been found to have no individual or cumulative effect on the human environment” (7 CFR 1b.4(a)). Accordingly, all FSIS actions are categorically excluded from preparation of an EA or EIS unless the Agency head determines that a particular action may have a significant environmental effect (Id.). The action thus is categorically excluded unless FSIS anticipates that extraordinary circumstances from this rule may have a significant environmental effect.

Expected sales of pork products rather than NSIS establishment sorting activity requirements or Agency traditional inspection system staffing standards, would determine production levels in establishments. Ending mandatory lymph nodes incision and viscera palpation may allow swine slaughter establishments to slaughter more efficiently but would not affect consumer demand for the establishments' products. Moreover, all establishments are required to meet applicable local, state, and Federal environmental requirements. FSIS does not anticipate that amending the NSIS establishment sorting requirements or revising Agency traditional inspection system staffing standards would have a significant environmental effect (7 CFR 1b.4(a)). Therefore, this action is appropriately subject to the categorical exclusion from the preparation of an environmental assessment or environmental impact statement provided under 7 CFR 1b.4(6) of the USDA regulations.

X. Additional Public Notification

Public awareness of all segments of rulemaking and policy development is important. Consequently, FSIS will announce this Federal Register publication on-line through the FSIS web page located at: https://www.fsis.usda.gov/federal-register. FSIS will also announce and provide a link through the FSIS Constituent Update, which is used to provide information regarding FSIS policies, procedures, regulations, Federal Register notices, FSIS public meetings, and other types of information that could affect or would be of interest to our constituents and stakeholders. The Constituent Update is available on the FSIS web page. Through the web page, FSIS is able to provide information to a much broader, more diverse audience. In addition, FSIS offers an email subscription service which provides automatic and customized access to selected food safety news and information. This service is available at: https://www.fsis.usda.gov/subscribe. Options range from recalls to export information, regulations, directives, and notices. Customers can add or delete subscriptions themselves and have the option to password protect their accounts.

XI. USDA Non-Discrimination Statement

In accordance with Federal civil rights law and USDA civil rights regulations and policies, the USDA, its Agencies, offices, and employees, and institutions participating in or administering USDA programs are prohibited from discriminating based on race, color, national origin, religion, sex, disability, age, marital status, family/parental status, income derived from a public assistance program, political beliefs, or reprisal or retaliation for prior civil rights activity, in any program or activity conducted or funded by USDA (not all bases apply to all programs). Remedies and complaint filing deadlines vary by program or incident.

Persons with disabilities who require alternative means of communication for program information (e.g., Braille, large print, audiotape, American Sign Language, etc.) should contact the State or local Agency that administers the program or contact USDA through the Telecommunications Relay Service at 711 (voice and TTY). Additionally, program information may be made available in languages other than English.

To file a program discrimination complaint, complete the USDA Program Discrimination Complaint Form, AD-3027, found online at How to File a Program Discrimination Complaint and at any USDA office or write a letter addressed to USDA and provide in the letter all of the information requested in the form. To request a copy of the complaint form, call (866) 632-9992. Submit your completed form or letter to USDA by: (1) mail: U.S. Department of Agriculture, Office of the Assistant Secretary for Civil Rights, 1400 Independence Avenue SW, Mail Stop 9410, Washington, DC 20250-9410; (2) fax: (202) 690-7442; or (3) email: program.intake@usda.gov.

USDA is an equal opportunity provider, employer, and lender.

List of Subjects in 9 CFR Part 310

Animal diseases, Blood, Meat inspection.

For the reasons set forth in the preamble, FSIS proposes to amend 9 CFR Chapter III as follows:

PART 310—POST-MORTEM INSPECTION

1. The authority citation for part 310 continues to read as follows:

Authority: 21 U.S.C. 601-695; 7 CFR 2.18, 2.53.

2. Amend § 310.1 by revising the righthand top header statement of Table 4 in paragraph (b)(3)(ii) to read as follows: Maximum number of inspectors per station.

3. Amend § 310.26 by removing the second sentence of paragraph (b).

Done in Washington, DC.
Justin Ransom,
Administrator.

[FR Doc. 2025-15749 Filed 8-18-25; 8:45 am]

BILLING CODE 3410-DM-P